DEPARTMENT OF STATE

[Delegation of Authority No. 590]

Delegation of Authority; Administration of the Advisory Committee on Historical Diplomatic Documentation (Foreign Relations of the United States Series)

By virtue of the authority vested in the Secretary of State, including Section 1 of the State Department Basic Authorities Act, as amended (22 U.S.C. 2651a), and to the extent authorized by law, I hereby delegate to the Assistant Secretary of Administration the authorities and functions related to the administration of the Advisory Committee on Historical Diplomatic Documentation, including approval of submissions for the Foreign Relations of the United States series, pursuant to 22 U.S.C. 4351 et seq.

The Secretary, the Deputy Secretary, the Deputy Secretary for Management and Resources, and the Under Secretary for Management may at any time exercise any authority or function delegated herein. Other than Delegation of Authority 472, dated June 10, 2019, which is hereby rescinded, this delegation of authority does not modify any other delegation currently in force.

This delegation of authority shall be published in the Federal Register.

Dated: July 10, 2025.
Marco Rubio,
Secretary of State.

[FR Doc. 2025-14534 Filed 7-31-25; 8:45 am]

BILLING CODE 4710-06-P